DEPARTMENT OF DEFENSE

Department of the Army

[Docket ID: USA-2013-OS-0048]

Privacy Act of 1974; System of Records

AGENCY: Department of the Army, DoD.

ACTION: Notice to delete two Systems of Records.

SUMMARY: The Department of the Army is deleting two systems of records notices in its existing inventory of record systems subject to the Privacy Act of 1974, as amended. The two systems being deleted are A0360-5 SAPA and AAFES 0502.02.

DATES: This proposed action will be effective on February 3, 2014 unless comments are received which result in a contrary determination. Comments will be accepted on or before February 3, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974 (5 U.S.C. 552a), as amended, have been published in the Federal Register and are available from the address in FOR FURTHER INFORMATION CONTACT or at http://dpclo.defense.gov/privacy/SORNs/component/army/index.html.

The Department of the Army proposes to delete two systems of records notices from its inventory of record systems subject to the Privacy Act of 1974 (5 U.S.C. 552a), as amended. The proposed deletion is not within the purview of subsection (r) of the Privacy Act of 1974 (5 U.S.C. 552a), as amended, which requires the submission of a new or altered system report.

Dated: December 27, 2013.
Aaron Siegel,
Alternate OSD Federal Register Liaison Officer, Department of Defense.

Deletions:

A0360-5 SAPA

Biography Files (September 11, 2001, 66 FR 47181)

Reason:

The program using this system of records notice has been discontinued and records are no longer collected and have met the approved NARA retention schedule; therefore, the system of records notice can be deleted.

AAFES 0502.02

Biographical Files (August 9, 1996, 61 FR 41581)

Reason:

The program using this system of records notice has been discontinued and records are no longer collected and have met the approved NARA retention schedule; therefore, the system of records notice can be deleted.

[FR Doc. 2013-31404 Filed 12-31-13; 8:45 am]

BILLING CODE 5001-06-P